OFFICE OF PERSONNEL MANAGEMENT

Submission for Review: Request for External Review

AGENCY: U.S. Office of Personnel Management.

ACTION: 60-Day Notice and request for comments.

SUMMARY: National Healthcare Operations, Office of Personnel Management (OPM), offers the general public and other Federal agencies the opportunity to comment on a new information collection request (ICR) 3206-NEW, Request for External Review. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until October 1, 2013. This process is conducted in accordance with 5 CFR 1320.1.

ADDRESSES: Interested persons are invited to submit written comments on the proposed information collection to National Healthcare Operations, Office of Personnel Management, 1900 E Street NW., Washington, DC 20415, Attention: Ed DeHarde, or sent via electronic mail to mspp@opm.gov.

FOR FURTHER INFORMATION CONTACT: A copy of this ICR, with applicable supporting documentation, may be obtained by contacting National Healthcare Operations, Office of Personnel Management, 1900 E Street NW., Washington, DC 20503, Attention: Ed DeHarde, or sent via electronic mail to mspp@opm.gov.

SUPPLEMENTARY INFORMATION: Section 1334 of the Patient Protection and Affordable Care Act, Public Law 111-148, as amended by the Health Care Education Reconciliation Act, Public Law 111-152 (together, “Affordable Care Act”), directed the Office of Personnel Management (OPM) to enter into contracts with health insurance issuers to offer coverage on Exchanges (also called “Marketplaces”) throughout the 50 States and the District of Columbia. OPM issued final regulations for the establishment of the Multi-State Plan Program (MSPP) on March 11, 2013, 78 FR 15560, which outlined an external review process that would be available to enrollees in Multi-State Plans (MSPs).

The regulations state that “OPM will conduct external review of adverse benefit determinations using a process similar to OPM review of disputed claims under [the Federal Employees Health Benefits Program] . . . .” A necessary part of conducting external review of adverse benefit determinations is accepting requests for external review from MSP enrollees who seek external review.

In general, after an issuer denies a claim, the enrollee whose claim is denied may ask the issuer to reconsider through a process called an internal appeal. If an issuer upholds a denial on internal appeal, the enrollee may seek external review of the denial. External review is a process that affords an enrollee in an MSP the right to have a denial of a claim appealed to an entity other than his or her health insurance issuer. The attached Model Notice of Final Internal Adverse Benefit Determination illustrates the content of the notice that an MSP issuer must provide to an MSP enrollee after denying a claim and upholding such denial upon internal appeal.

Analysis

Agency: National Healthcare Operations, Office of Personnel Management.

Title: Request for External Review.

OMB Number: 3206-NEW.

Frequency: Occasionally.

Affected Public: Multi-State Plan enrollees.

Estimated Number of Respondents: 2,933,333.

Estimated Time per Respondent: 30 minutes.

Estimated Total Burden Hours: 1,466,666.5.

U.S. Office of Personnel Management.
Elaine Kaplan,
Acting Director.

[FR Doc. 2013-18602 Filed 8-1-13; 8:45 am]

BILLING CODE 6325-38-P